FEDERAL COMMUNICATIONS COMMISSION

47 CFR Part 73

[DA 03-273; MB Docket No. 03-29, RM-10643; MB Docket No. 03-30, RM-10644]

Radio Broadcasting Services; Muldrow, OK and Trona, CA

AGENCY: Federal Communications Commission.

ACTION: Proposed rule.

SUMMARY: This document proposes two allotments in Muldrow, Oklahoma and Trona, California. The Commission requests comment on a petition filed by David P. Garland proposing the allotment of Channel 286A at Muldrow, Oklahoma, as the community's first local service. Channel 286A can be allotted to Muldrow in compliance with the Commission's minimum distance separation requirements with a site restriction of 10.02 km (6.52 miles) north of Muldrow. The coordinates for Channel 286A at Muldrow are 35-29-47 North Latitude and 94-36-04 West Longitude. See Supplementary Information infra.

DATES: Comments must be filed on or before March 24, 2003, and reply comments on or before April 8, 2003.

ADDRESSES: Federal Communications Commission, Washington, DC 20554. In addition to filing comments with the FCC, interested parties should serve the petitioner as follows: David P. Garland, 1110 Hackney Street, Houston, Texas 77023; Dana J. Puopolo, 2134 Oak St., Unit C, Santa Monica, California 90405.

FOR FURTHER INFORMATION CONTACT: Deborah A. Dupont, Media Bureau, (202) 418-7072.

SUPPLEMENTARY INFORMATION: This is a synopsis of the Commission's Notice of Proposed Rule Making, MB Docket Nos. 03-29 and 03-30; adopted January 29, 2003 and released January 31, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by Dana J. Puopolo proposing the allotment of Channel 255A at Trona, California, as the community's first local service. Channel 255A can be allotted to Trona in compliance with the Commission's minimum distance separation requirements with a site restriction of 6.8 km (4.2 miles) southeast of Trona. The coordinates for Channel 255A at Trona are 35-43-51 North Latitude and 117-18-28 West Longitude. Petitioner is required to submit sufficient information to establish that Trona qualifies as a community for FM allotment purposes.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Muldrow, Channel 286A.

3. Section 73.202(b), the Table of FM Allotments under California, is amended by adding Trona, Channel 255A.

Federal Communications Commission.
John A. Karousos,
Assistant Chief, Audio Division, Media Bureau.

[FR Doc. 03-3953 Filed 2-18-03; 8:45 am]

BILLING CODE 6712-01-P